DEPARTMENT OF HEALTH AND HUMAN SERVICES

National Institutes of Health

Draft Report on Carcinogens Monographs for ortho-Toluidine and Pentachlorophenol and By-products of Its Synthesis; Availability of Documents; Request for Comments; Notice of Rescheduled Meeting

SUMMARY: The notice announces the meeting to peer review the Draft Report on Carcinogens (RoC) Monographs for ortho-Toluidine and Pentachlorophenol and By-products of its Synthesis (hereafter referred to as “pentachlorophenol”). These documents were prepared by the Office of the Report on Carcinogens (ORoC), Division of the National Toxicology Program (DNTP), National Institute of Environmental Health Sciences (NIEHS). The peer-review meeting, originally scheduled for October 7-8, 2013 (78 FR 51733), was cancelled due to the Federal government shutdown, and has been rescheduled for December 12-13, 2013. Written public comments previously submitted for the originally scheduled meeting are applicable for this meeting and do not need to be resubmitted. Persons planning to attend the meeting and/or present oral comments are asked to re-register.

DATES: Meeting: December 12, 2013, 8:30 a.m. to approximately 5:00 p.m. Eastern Standard Time (EST) and December 13, 2013, from 8:30 a.m. until adjournment, approximately 11:30 a.m.

Document Availability: Draft monographs are available at http://ntp.niehs.nih.gov/go/38853.

Public Comments Submissions: Deadline is November 21, 2013.

Pre-Registration for Meeting and/or Oral Comments: Deadline is December 5, 2013.

ADDRESSES: Meeting Location: The meeting location will be in the Research Triangle Park, NC area and announced on the meeting page (http://ntp.niehs.nih.gov/go/38853) when set.

Agency Meeting Web page: Information for the peer review including draft monographs, draft agenda, roster, and other meeting materials will be posted, when available at http://ntp.niehs.nih.gov/go/38853. Online registration is available on this Web page.

Webcast: The meeting will be available via webcast at http://www.niehs.nih.gov/news/video/index.cfm.

FOR FURTHER INFORMATION CONTACT: Dr. Lori White, NTP Designated Federal Official, Office of Liaison, Policy and Review, DNTP, NIEHS, P.O. Box 12233, MD K2-03, Research Triangle Park, NC 27709. Phone: (919) 541-9834, Fax: (301) 480-3272, Email: whiteld@niehs.nih.gov. Hand Delivery/Courier: 530 Davis Drive, Room 2136, Morrisville, NC 27560.

SUPPLEMENTARY INFORMATION:

Background

Information regarding this peer-review meeting, originally scheduled for October 7-8, 2013 was published in the Federal Register (78 FR 51733). Due to the Federal government shutdown in October 2013, the meeting was cancelled and is now rescheduled for December 12-13, 2013. This notice provides updated information about the meeting including deadlines for registration and submission of public comments.

Meeting and Registration

The meeting is open to the public with time set aside for oral public comment; attendance is limited only by the space available. The exact location of the meeting has not been set, although it will be in the Research Triangle Park, NC area and posted on the meeting Web site when available.

The meeting is scheduled for December 12, 2013, 8:30 a.m. to approximately 5:00 p.m. EST and December 13, 2013, from 8:30 a.m. until adjournment, approximately 11:30 a.m. Two days are set aside for the meeting; however, it may adjourn sooner if the panel completes its peer review of the draft monographs. Pre-registration to attend the meeting and/or provide oral comments is by December 5, 2013, at http://ntp.niehs.nih.gov/go/38853. For planning purposes by the NTP, anyone who pre-registered for the October 7-8 meeting should re-register for the December 12-13 meeting if they want to attend. Registered attendees are encouraged to access the meeting Web page at http://ntp.niehs.nih.gov/go/38853 to stay abreast of the most current information regarding the meeting.

Request for Comments

The NTP invites written and oral public comments on the draft monographs. Written public comments previously submitted for the originally scheduled meeting on October 7-8, 2013, (78 FR 51733) are applicable for this meeting, do not need to be resubmitted, and have been posted to the NTP Web site (http://ntp.niehs.nih.gov/go/40594) and shared with the peer-review panel and NTP staff. The deadline for submission of additional written comments is November 21, 2013, to enable review by the peer-review panel and NTP staff prior to the meeting.

Persons wishing to make oral comments, including those who originally registered to present comments at the October 7-8, 2013 and those now interested in making comments, are asked to register online at http://ntp.niehs.nih.gov/go/38853 by December 5, 2013. As noted in the previous Federal Register notice (78 FR 51733), oral public comments may be presented in person or by teleconference line and will adhere to the procedures stated in that notice. The lines will be open from 8:30 a.m. until approximately 5:00 p.m. EST on December 12 and from 8:30 a.m. EST until adjournment on December 13, and oral comments will be received only during the formal public comment periods indicated on the preliminary agenda.

Dated: November 6, 2013.
John R. Bucher,
Associate Director, National Toxicology Program.

[FR Doc. 2013-26937 Filed 11-8-13; 8:45 am]

BILLING CODE 4140-01-P